DEPARTMENT OF AGRICULTURE

Animal and Plant Health Inspection Service

7 CFR Part 301

[Docket No. 05-027-2]

Pine Shoot Beetle; Additions to Quarantined Areas

AGENCY: Animal and Plant Health Inspection Service, USDA.

ACTION: Affirmation of interim rule as final rule.

SUMMARY: We are adopting as a final rule, without change, an interim rule that amended the pine shoot beetle regulations by adding counties in Illinois, Indiana, New York, Ohio, Pennsylvania, and Wisconsin to the list of quarantined areas. In addition, the interim rule designated the States of New Hampshire and Vermont, in their entirety, as quarantined areas based on their decision to no longer enforce intrastate movement restrictions. The interim rule was necessary to prevent the spread of pine shoot beetle, a pest of pine trees, into noninfested areas of the United States.

DATES: Effective on March 14, 2006, we are adopting as a final rule the interim rule that became effective on May 26, 2005.

FOR FURTHER INFORMATION CONTACT: Mr. Weyman Fussell, Program Manager, Pest Detection and Management Programs, PPQ, APHIS, 4700 River Road, Unit 134, Riverdale, MD 20737-1231; (301) 734-5705.

SUPPLEMENTARY INFORMATION:

Background

The regulations in 7 CFR 301.50 through 301.50-10 (referred to below as the regulations) restrict the interstate movement of certain regulated articles from quarantined areas in order to prevent the spread of pine shoot beetle (PSB) into noninfested areas of the United States.

In an interim rule effective and published in the Federal Register on May 26, 2005 (70 FR 30329-30330, Docket No. 05-027-1), we amended the regulations in § 301.50-3 by adding Christian, Douglas, and Edgar Counties, IL; Vigo County, IN; Clinton, Essex, Rensselaer, Warren, and Washington Counties, NY; Lawrence and Meigs Counties, OH; Snyder, Sullivan, Union, and Wayne Counties, PA; and Dane, Jackson, Lafayette, Sauk, and Walworth Counties, WI, to the list of quarantined areas in § 301.50-3(c). We took this action based on official surveys which indicated that these counties are infested with PSB.The interim rule also designated the States of New Hampshire and Vermont, in their entirety, as quarantined areas based on their decision to no longer enforce intrastate movement restrictions.

Comments on the interim rule were required to be received on or before July 25, 2005. We did not receive any comments. Therefore, for the reasons given in the interim rule, we are adopting the interim rule as a final rule.

This action also affirms the information contained in the interim rule concerning Executive Orders 12866, 12372, and 12988 and the Paperwork Reduction Act.

Further, for this action, the Office of Management and Budget has waived its review under Executive Order 12866.

Regulatory Flexibility Act

This rule affirms an interim rule that amended the regulations by adding 20 counties in Illinois, Indiana, New York, Ohio, Pennsylvania, and Wisconsin, and the States of New Hampshire (9 previously nonquarantined counties) and Vermont (10 previously nonquarantined counties), in their entirety, to the list of areas quarantined for PSB. As a result of this action, there are additional restrictions on the interstate movement of regulated articles from these areas.

The following analysis addresses the economic effect of the interim rule on small entities, as required by the Regulatory Flexibility Act.

The interim rule affects entities in the 39 newly regulated counties in Illinois, Indiana, New Hampshire, New York, Ohio, Pennsylvania, Vermont, and Wisconsin that are engaged in moving regulated articles interstate from the regulated area.

Entities affected by the interim rule may include nursery stock growers, Christmas tree farms, logging operations, and others who sell, process, or move regulated articles. As a result of the interim rule, any regulated articles to be moved interstate from a quarantined area must first be inspected and/or treated in order to qualify for a certificate or limited permit authorizing the movement. Cut Christmas tree farms, nurseries and greenhouses, sawmills, logging operations, and others in the newly quarantined counties will be required to inspect and/or treat infested pine products before moving them interstate. Certain pine products may not be shipped during certain months of the year or will be required to undergo debarking before transport occurs.

APHIS has identified at least 1,048 entities that sell, process, or move forest products in these 39 regulated counties which might be impacted by the rule. Of these entities, there were approximately 253 that were producing nursery and greenhouse crops and 795 cut Christmas tree farms (table 1). In addition, an unknown number of sawmills and logging operations in the newly operated counties process pine tree products. According to information provided by agricultural extension officers in Illinois, Indiana, and New York and information previously collected by APHIS, pine trees and pine tree products such as cut Christmas trees sold in these States generally remain within the regulated areas. Nurseries and greenhouses specialize in production of deciduous landscape products rather than production of rooted pine Christmas trees and pine nursery stock, which generally constitute a small part of their production, if they are produced at all. Therefore, the interim rule is not likely to affect most nurseries and greenhouses.

Table 1.—Nursery and Cut Christmas Tree Farms in Newly Quarantined Areas
State | Newly quarantined counties | Nursery and greenhouse farms | Cut Christmas tree farms
Illinois | 3 | 6 | 17
Indiana | 1 | 3 | 8
New Hampshire | 9 | 73 | 209
New York | 5 | 37 | 125
Ohio | 2 | 17 | 11
Pennsylvania | 4 | 30 | 73
Vermont | 10 | 22 | 252
Wisconsin | 5 | 65 | 100
Total | 39 | 253 | 795
Sources: USDA, NASS, 2002 Census of Agriculture Volume 1, Chapter 2, County level data, table 34; Indiana Agricultural Extension Office; and New York Agricultural Extension Office. The 2002 Census of Agriculture does not report sales with county-level data.

Impact on Small Entities

The Regulatory Flexibility Act requires that agencies consider the economic effects of their rules on small entities and to use flexibility to provide regulatory relief when regulations create economic disparities between different sized entities. According to the Small Business Administration's (SBA's) Office of Advocacy, regulations create disparities based on size when they have a significant economic impact on a substantial number of small entities.

According to SBA size standards, nursery stock growers are considered small entities when they have annual sales of $750,000 or less, and Christmas tree growers are considered small entities when they have annual sales of $5 million or less. The 2002 Agricultural Census does not report sales by county. However, from previously gathered information, APHIS would assume that the majority of these types of entities within the newly quarantined areas are small by the SBA size standards.

As noted previously, those nurseries and greenhouses within the newly quarantined areas specialize in production of deciduous landscape products, not the production of regulated articles such as rooted pine trees and pine nursery stock. Further, the Christmas trees and pine products from cut Christmas tree farms generally remain within the regulated areas. For these reasons, the economic effects of the interim rule on regulated entities as a whole are not expected to be significant.

Under these circumstances, the Administrator of the Animal and Plant Health Inspection Service has determined that this action will not have a significant economic impact on a substantial number of small entities.

List of Subjects in 7 CFR Part 301

Agricultural commodities, Plant diseases and pests, Quarantine, Reporting and recordkeeping requirements, Transportation.

PART 301—DOMESTIC QUARANTINE NOTICES

Accordingly, we are adopting as a final rule, without change, the interim rule that amended 7 CFR part 301 and that was published at 70 FR 30329-30330 on May 26, 2005.

Done in Washington, DC, this 7th day of March 2006.
Kevin Shea,
Acting Administrator, Animal and Plant Health Inspection Service.

[FR Doc. 06-2403 Filed 3-13-06; 8:45 am]

BILLING CODE 3410-34-P